DEPARTMENT OF ENERGY

[Docket Nos. CP03-2-000, et. al.]

Federal Energy Regulatory Commission

October 16, 2002.

Energy West Development, Inc.; Notice of Application

On October 3, 2002, Energy West Development, Inc. (Energy West), PO Box 2229, Great Falls, Montana, 59403, filed an application pursuant to section 7 of the Natural Gas Act (NGA), as amended, and sections 157 Subparts A and F and 284 Subpart G of the Federal Energy Regulatory Commission's (Commission) Rules and Regulations thereunder. Energy West requests authorization: to convert about 34 miles of oil pipeline to natural gas pipeline operation; for a Subpart F construction, operation and abandonment blanket certificate (CP03-3-000); and, for a Subpart G transportation blanket certificate (CP03-4-000). The facilities are necessary to provide additional incremental firm and interruptible transportation service of 13,500 Decatherms per Day(Dth/d) for market area load, all as more fully set forth in the application which is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 502-8659.

The requested certificate would authorize Energy West to convert to natural gas operation an existing pipeline running from Cody, Wyoming to Warren, Montana that originally was constructed and used for the transportation of non-jurisdictional liquids, but that in recent years has laid dormant. Energy West also seeks acceptance of an initial tariff and initial rates, and requests that the Commission accept for filing a negotiated rate transaction with Prairielands Energy Marketing, Inc. that does not conform to the proposed initial rates. Energy West submitted precedent agreements with Prairielands Energy Marketing, Inc.(10,000 Dth/d) and Howell Petroleum Corp.(5,000 Dth/d) for interruptible transportation service; and, with Energy West Resources, Inc. for 10,000 Dth/d of firm transportation service. Energy West also requests expedited consideration of its application and certain waivers of the Commission's regulations.

Questions regarding the application may be directed to: John C. Allen, President and General Counsel, Energy West Development, Inc., PO Box 2229, Great Falls, Montana, 59403, or call (406) 791-7500; or, Patrick J. Joyce, Blackwell Sanders Peper Martin LLP, 13710 FNB Parkway, Suite 200, PO Box 542090, Omaha, Nebraska, 68154 or call (402) 964-5012.

There are two ways to become involved in the Commission's review of this project. First, any person wishing to obtain legal status by becoming a party to the proceedings for this project should, on or before November 5, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

If the Commission decides to set the application for a formal hearing before an Administrative Law Judge, the Commission will issue another notice describing that process. At the end of the Commission's review process, a final Commission order approving or denying a certificate will be issued.

Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-26937 Filed 10-22-02; 8:45 am]

BILLING CODE 6717-01-P